DEPARTMENT OF DEFENSE

Office of the Secretary

[Docket ID DoD-2014-OS-0057]

Privacy Act of 1974; System of Records

AGENCY: Office of the Secretary of Defense, DoD.

ACTION: Notice to add a new System of Records.

SUMMARY: The Office of the Secretary of Defense proposes to add a new system of records, DPFPA 03, entitled “Pentagon Facilities Emergency and Incident Notification Records” to its inventory of record systems subject to the Privacy Act of 1974, as amended. This system will provide an automated notification mechanism to contact PFPA employees and mission partners to provide situational awareness, facilitate recall, and to give instructions during an emergency or incident impacting the Pentagon facilities.

DATES: Comments will be accepted on or before June 2, 2014. This proposed action will be effective the day following the end of the comment period unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at http://dpclo.defense.gov/.

The proposed system report, as required by 5 U.S.C. 552a(r) of the Privacy Act of 1974, as amended, was submitted on April 18, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 28, 2014.
Aaron Siegel,
Alternate OSD Federal Register Liaison Officer, Department of Defense.

DPFPA 03

System name:

Pentagon Facilities Emergency and Incident Notification Records.

System location:

Pentagon Force Protection Agency (PFPA), Integrated Emergency Operations Center (IEOC), 9000 Defense Pentagon, Washington, DC 20301-9000.

Categories of individuals covered by the system:

All current PFPA personnel (civilian employees, contractors, military).

Points of contact at leased facilities within PFPA's Area of Responsibility.

DoD mission partners who have the authority and ability to assist PFPA in times of emergencies to include Washington Headquarters Services (WHS), Office of the Secretary of Defense (OSD), the Joint Staff and Arlington Fire and Police.

Categories of records in the system:

Full name, DoD Identification (DoD ID) number, organization, work and personal phone number(s), and work and personal email addresses.

Authority for maintenance of the system:

10 U.S.C. 2674, Operation and Control of Pentagon Reservation and Defense Facilities in National Capital Region; DoD Directive 5105.68, Pentagon Force Protection Agency (PFPA); DoD Instruction (DoDI) O-3020.43, Emergency Management and Incident Command on the Pentagon Facilities; DoDI 6055.17, DOD Installation Emergency Management (IEM) Program; and Director of Administration and Management Administrative Instruction 30, Force Protection on the Pentagon Reservation.

Purpose:

To provide an automated notification mechanism to contact PFPA employees and mission partners to provide situational awareness, facilitate recall, and to give instructions during an emergency or incident impacting the Pentagon facilities.

Routine uses of records maintained in the system, including categories of users and the purposes of such uses:

In addition to those disclosures generally permitted under 5 U.S.C. 552a(b) of the Privacy Act of 1974, as amended, the records contained herein may specifically be disclosed outside the DoD as a routine use pursuant to 5 U.S.C. 552a(b)(3) as follows:

The DoD Blanket Routine Uses set forth at the beginning of the OSD's compilation of systems of records notices may apply to this system.

Policies and practices for storing, retrieving, accessing, retaining, and disposing of records in the system:

Storage:

Electronic storage media.

Retrievability:

Individual's full name and organization.

Safeguards:

Records are maintained in a controlled facility with Closed Circuit TV (CCTV). Physical entry is restricted by the use of locks and guards, accessible only to authorized personnel. Access to records is limited to person(s) responsible for servicing the record in performance of their official duties and who are properly screened and cleared for need-to-know. Access to computerized data is restricted by Common Access Card (CAC) and username/passwords, which are changed periodically. Data is encrypted at rest and in transit.

Records are stored in encrypted databases that are only accessible on DoD networks that are routinely scanned to assess system vulnerabilities. Only a limited number of operators have access to the data. Common Access Cards (CAC) and passwords are used to authenticate authorized system operators in the system application. CAC authentication is required for users (recipients of notifications) to update their contact information and other personal data through the system desktop client. Users can only view and update their own information.

For users that are not networked, they must call, tell face-to-face or send an encrypted email to an operator to have their information loaded into the database or the information is provided to an operator via their organization's roster update which users have consented to provide.

The system data is encrypted both at rest and in transit. Firewalls protect the DoD networks and the system uses Secured Sockets Layer (SSL) with Public Key Infrastructure (PKI) certificates in the data transfer protocols for encryption.

Administratively PFPA regularly monitors the users' security practices to ensure only authorized users have access to PII.

Retention and disposal:

TEMPORARY—Cut off when superseded or obsolete, destroy immediately after cutoff.

System manager(s) and address:

Chief, Office of Emergency Management, Pentagon Force Protection Agency IEOC, 9000 Defense Pentagon, Washington, DC 20301-9000.

Notification procedure:

Individuals seeking to determine whether information about themselves is contained in this system should address written inquiries to the Chief, Office of Emergency Management, Pentagon Force Protection Agency, 9000 Defense Pentagon, Washington, DC 20301-9000.

Requests should contain individual's full name and organization.

Record access procedures:

Individuals seeking access to records about themselves should address written inquiries to the Office of the Secretary of Defense/Joint Staff, Freedom of Information Act Requester Service Center, 1155 Defense Pentagon, Washington, DC 20301-1155.

Signed, written requests should include full name, organization, current address, and the number of this system of records notice.

Contesting record procedures:

The OSD rules for accessing records, for contesting contents and appealing initial agency determinations are published in OSD Administrative Instruction 81; 32 CFR part 311; or may be obtained from the system manager.

Record source categories:

Individuals.

Exemptions claimed for the system:

None.

[FR Doc. 2014-09944 Filed 4-30-14; 8:45 am]

BILLING CODE 5001-06-P